DEPARTMENT OF THE INTERIOR

Bureau of Land Management

[AZ-910-077-XP-241A]

State of Arizona Resource Advisory Council Meeting

AGENCY: Bureau of Land Management, Interior.

ACTION: Arizona Resource Advisory Council Meeting notice.

SUMMARY: This notice announces a meeting and tour of the Arizona Resource Advisory Council (RAC).

The business meeting will be held on May 26, 2004, at the Best Western Plaza Inn located at 110 W. Rex Allen Drive in Wilcox, Arizona. It will begin at 9 a.m. and conclude at 4 p.m. The agenda items to be covered include: Review of the February 18, 2004 meeting minutes; BLM State Director's Update on Statewide Issues; Presentations on Land Use Planning Process, Land Tenure Adjustment—Focusing on Land Exchanges and Land Dispositions, and Arizona's Fire Land Use Plan Amendment for Fire, Fuels and Air Quality Management; Update on the Borderland Task Force and Border Issues, and Review of the statewide Citizen Wilderness Proposals and how they are being addressed in the land use planning efforts underway; RAC Questions on Written Reports from BLM Field Managers; Field Office Rangeland Resource Team Proposals; Reports by the Standards and Guidelines, Recreation, Off-Highway Vehicle Use, Public Relations, Land Use Planning and Tenure, and Wild Horse and Burro Working Groups; Reports from RAC members; and Discussion of future meetings. A public comment period will be provided at 11 a.m. on May 26, 2004, for any interested publics who wish to address the Council.

On May 27, 2004, the RAC will tour the Muleshoe Ranch Cooperative Management Area, a 55,000-acre ranch jointly owned and managed by The Nature Conservancy, the U.S. Forest Service, and the Bureau of Land Management, from 8 a.m. until 12 p.m.

FOR FURTHER INFORMATION CONTACT: Deborah Stevens, Bureau of Land Management, Arizona State Office, 222 North Central Avenue, Phoenix, Arizona 85004-2203, (602) 417-9215.

Elaine Y. Zielinski,
Arizona State Director.

[FR Doc. 04-9586 Filed 4-27-04; 8:45 am]

BILLING CODE 4310-32-M